SMALL BUSINESS ADMINISTRATION

[Disaster Declaration #14138 and #14139]

California Disaster # CA-00225

AGENCY: U.S. Small Business Administration.

ACTION: Amendment 1.

SUMMARY: This is an amendment of the Administrative disaster declaration for the State of CALIFORNIA dated 10/01/2014.

Incident: Boles Fire,

Incident Period: 09/15/2014 and continuing through 10/09/2014,

Effective Date: 11/13/2014,

Physical Loan Application Deadline Date: 12/01/2014,

Economic Injury (EIDL) Loan Application Deadline Date: 07/01/2015,

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Administrative disaster declaration for the State of California, dated 10/01/2014 is hereby amended to establish the incident period for this disaster as beginning 09/15/2014 and continuing through 10/09/2014.

All other information in the original declaration remains unchanged.

(Catalog of Federal Domestic Assistance Numbers 59002 and 59008)

Dated: November 13, 2014.
Maria Contreras-Sweet,
Administrator.

[FR Doc. 2014-28332 Filed 12-1-14; 8:45 am]

BILLING CODE 8025-01-P